SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before October 18, 2010.

ADDRESSES: Send all comments regarding whether this information collection is necessary for the proper performance of the function of the agency, whether the burden estimates are accurate, and if there are ways to minimize the estimated burden and enhance the quality of the collection, to Gail Hepler, Chief 7(a) Program Branch, Office of Financial Assistance, Small Business Administration, 409 3rd Street, 8th Floor, Washington, DC 20416.

FOR FURTHER INFORMATION CONTACT: Gail Hepler, Office of Financial Assistance, 202-205-7530 gail.hepler@sba.gov; Curtis B. Rich, Management Analyst, 202-205-7030 curtis.rich@sba.gov.

SUPPLEMENTARY INFORMATION: The information collected through these forms from the small business applications and participating lenders will be used to determine eligibility and to properly evaluate the merits of each loan request based on each criteria as character, capacity, credit collateral, etc. For the purpose of extending credit under the 7(a) loan program.

Title: “Lender Advantage.”

Description of Respondents: 7(a) Lenders.

Form Number: 2301, A, B, C.

Annual Responses: 4,000.

Annual Burden: 20,000.

Curtis B. Rich,
Acting Chief, Administrative Information Branch.

[FR Doc. 2010-20309 Filed 8-16-10; 8:45 am]

BILLING CODE 8025-01-P